OFFICE OF PERSONNEL MANAGEMENT

January 2000 Pay Adjustments

AGENCY: Office of Personnel Management.

ACTION: Notice.

SUMMARY: The President adjusted the rates of basic pay and locality payments for certain categories of Federal employees in January 2000. This notice documents those pay adjustments for the public record.

FOR FURTHER INFORMATION CONTACT: Denise Jenkins, Office of Compensation Administration, Workforce Compensation and Performance Service, Office of Personnel Management, (202) 606-2858, FAX (202) 606-0824, or email to payleave@opm.gov.

SUPPLEMENTARY INFORMATION: On December 21, 1999, the President signed Executive Order 13144 (64 FR 72237, December 23, 1999), which established the January 2000 across-the-board adjustments for the statutory pay systems and the 2000 locality pay adjustments for General Schedule (GS) employees in the 48 contiguous States and the District of Columbia. The President made these adjustments consistent with section 646 of the Treasury and General Government Appropriations Act, 2000 (Public Law 106-58, September 29, 1999). Schedule 1 of Executive Order 13144 provides the rates for the 2000 General Schedule and reflects a 3.8 percent general increase. Executive Order 13144 also includes the percentage amounts of the 2000 locality payments. (See Section 5 and Schedule 9 of Executive Order 13144.) The publication of this notice satisfies the requirement in section 5(b) of Executive Order 13144 that the Office of Personnel Management (OPM) publish appropriate notice of the 2000 locality payments in the Federal Register.

GS employees receive locality payments under 5 U.S.C. 5304. Locality payments apply in the 48 contiguous States and the District of Columbia. In 2000, locality payments ranging from 6.78 percent to 15.01 percent apply to GS employees in 32 locality pay areas. These 2000 locality pay percentages, which replaced the locality pay percentages that were applicable in 1999, became effective on the first day of the first applicable pay period beginning on or after January 1, 2000. An employee's locality-adjusted annual rate of pay is computed by increasing his or her scheduled annual rate of basic pay (as defined in 5 U.S.C. 5302(8) and 5 CFR 531.602) by the applicable locality pay percentage. (See 5 CFR 531.604 and 531.605.)

On December 7, 1999, the President's Pay Agent extended the 2000 locality-based comparability payments to the same Governmentwide and single-agency categories of non-GS employees that received the 1999 locality payments. The Governmentwide categories include members of the Senior Executive Service (SES), the Foreign Service, the Senior Foreign Service, employees in senior-level (SL) and scientific or professional (ST) positions, administrative law judges, and members of Boards of Contract Appeals.

Executive Order 13144 establishes the new Executive Schedule, which incorporates the 3.4 percent increase required under 5 U.S.C. 5318. The Executive order also reflects a decision by the President to increase the rates of basic pay for members of the Senior Executive Service (SES) by 3.8 percent (rounded to the nearest $100) at SES levels ES-1 through ES-3 and by 3.6 percent (rounded to the nearest $100) at ES-4. Since the maximum rate of basic pay for SES members is limited by law to the rate for level IV of the Executive Schedule, which was increased to $122,400, the rates of basic pay for levels ES-5 and ES-6 were increased by approximately 3.4 percent (rounded to the nearest $100).

Public Law 106-97 of November 12, 1999, amended 5 U.S.C. 5372 to provide the President with authority to adjust the rates of basic pay for administrative law judges (ALJs) at the time of the pay increase for the statutory pay systems. The Executive order reflects a decision by the President to increase the rates of basic pay for ALJs at level AL-2 and AL-3 by 3.8 percent (rounded to the nearest $100). The President increased the rate of basic pay for AL-1 by approximately 3.4 percent (rounded to the nearest $100), since that rate is capped at the rate of basic pay for level IV of the Executive Schedule.

The rates of basic pay for Board of Contract Appeals (BCA) members are calculated as a percentage of the rate for level IV of the Executive Schedule. (See 5 U.S.C. 5372a.) Therefore, BCA rates of basic pay were increased by approximately 3.4 percent. Also, the maximum rate of basic pay for senior-level (SL) and scientific or professional (ST) positions was increased by approximately 3.4 percent (to $122,400) because it is tied to the rate for level IV of the Executive Schedule. The minimum rate of basic pay for SL/ST positions is equal to 120 percent of the minimum rate of basic pay for GS-15, and thus was increased by 3.8 percent (to $93,137). (See 5 U.S.C. 5376.)

OPM published “Salary Tables for 2000” (OPM Doc. 124-48-6) in March 2000. This document provides complete salary tables incorporating the 2000 pay adjustments, information on general pay administration matters, locality pay area definitions, Internal Revenue Service withholding tables, and other related information. The rates of pay shown in “Salary Tables for 2000” are the official rates of pay for affected employees and are hereby incorporated as part of this notice. You may purchase copies of “Salary Tables for 2000” from the Government Printing Office (GPO) by calling (202) 512-1800 or FAX (202) 512-2250. You may order copies directly from GPO on the Internet at http://orders.access.gpo.gov/su_docs/sale/prf/prf.html. In addition, you can find pay tables on OPM's Internet website at http://www.opm.gov/oca/payrates/index.htm.

Office of Personnel Management.
Janice R. Lachance,
Director.

[FR Doc. 00-14625 Filed 6-8-00; 8:45 am]

BILLING CODE 6325-01-U